NUCLEAR REGULATORY COMMISSION

10 CFR Part 50

[Docket No. PRM-50-75; NRC-2002-0018]

Anthony R. Pietrangelo, Nuclear Energy Institute; Consideration of Petition in the Rulemaking Process; Correction

AGENCY: Nuclear Regulatory Commission.

ACTION: Resolution and closure of petition docket; Correction.

SUMMARY: The Nuclear Regulatory Commission (NRC) is correcting a document that appeared in the Federal Register on November 6, 2008 (73 FR 66000). The NRC is considering the issues raised in a petition for rulemaking submitted by Anthony R. Pietrangelo, on behalf of the Nuclear Energy Institute, in the ongoing “Risk-Informed Redefinition of Large Break Loss-of-Coolant Accident (LOCA) Emergency Core Cooling System (ECCS) Requirements” rulemaking. This document corrects an erroneous NRC docket number and date.

DATES: Effective November 18, 2008.

FOR FURTHER INFORMATION CONTACT: Michael T. Lesar, Chief, Rulemaking, Directives, and Editing Branch, Division of Administrative Services, Office of Administration, U.S. Nuclear Regulatory Commission, Washington, DC 20555-0001, telephone 301-415-7163, e-mail Michael.Lesar@nrc.gov.

SUPPLEMENTARY INFORMATION: In FR doc. E8-26463 appearing on page 66000 in the Federal Register of Thursday, November 6, 2008, the following corrections are made:

1. On page 66000, in the first column, under the ADDRESSES section, second paragraph, seventh line, “2008-0332” is corrected to read “2004-0006”.

2. On page 66000, in the center column, under the SUPPLEMENTARY INFORMATION, 17th line, “April 8, 2005 (67 FR 16654)” is corrected to read “November 7, 2005 (70 FR 67598)”.

Dated at Rockville, Maryland, this 12th day of November 2008.
For the Nuclear Regulatory Commission.
Michael T. Lesar,
Chief, Rulemaking, Directives, and Editing Branch, Division of Administrative Services, Office of Administration.

[FR Doc. E8-27304 Filed 11-17-08; 8:45 am]

BILLING CODE 7590-01-P